FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010776-122.

Title: Asia North America Eastbound Rate Agreement.

Parties: American President Lines, Ltd, APL Co. Pte Ltd., A.P. Moller-Maersk Sealand, Kawasaki Kisen Kaisha, Ltd., Hapag-Lloyd Container Linie GmbH, Nippon Yusen Kaisha, Orient Overseas Container Line Limited, P&O Nedlloyd Limited, Mitsui O.S.K. Lines, Ltd., P&O Nedlloyd B.V.

Synopsis: The amendment extends the current suspension for an additional six months through May 1, 2003.

Agreement No.: 011375-060.

Title: The Trans-Atlantic Conference Agreement.

Parties: A.P. Moller-Maersk Sealand, Atlantic Container Line AB, Hapag-Lloyd Container Linie GmbH, Mediterranean Shipping Company, S.A., Nippon Yusen Kaisha, Orient Overseas Container Lines Limited, P&O Nedlloyd Limited.

Synopsis: The amendment renews the conference's Temporary Slot Assistance Program for the period from the last week of December 2002 through the second week of February 2003.

Agreement No.: 201048-001.

Title: Philadelphia Regional Port Authority and Delaware River Stevedores, Inc. Lease Agreement.

Parties: Philadelphia Regional Port Authority, Delaware River Stevedores, Inc.

Synopsis: The agreement amendment restates the entire agreement and revises the minimum vessel calls and tonnage requirements.

Agreement No.: 201113-002.

Title: Non-Exclusive Preferential Assignment Agreement Between the Port of Oakland and SSA Terminals, LLC.

Parties: Port of Oakland, SSA Terminals, LLC.

Synopsis: The amendment clarifies the term of the agreement in view of certain events that have taken place.

By Order of the Federal Maritime Commission.
Dated: November 8, 2002.
Theodore A. Zook,
Assistant Secretary.

[FR Doc. 02-28911 Filed 11-13-02; 8:45 am]

BILLING CODE 6730-01-P